DEPARTMENT OF ENERGY

Federal Energy Regulatory Commission

Combined Notice of Filings #1

Take notice that the Commission received the following electric rate filings:

Docket Numbers: ER10-1580-018.

Applicants: Saguaro Power Company LP.

Description: Notice of Non-Material Change in Status of Saguaro Power Company.

Filed Date: 10/28/22.

Accession Number: 20221028-5385.

Comment Date: 5 p.m. ET 11/18/22.

Docket Numbers: ER10-1818-032.

Applicants: Public Service Company of Colorado.

Description: Notice of Change in Status of Public Service Company of Colorado.

Filed Date: 10/28/22.

Accession Number: 20221028-5322.

Comment Date: 5 p.m. ET 11/18/22.

Docket Numbers: ER15-1905-011.

Applicants: AZ721 LLC.

Description: Notice of Change in Status of Amazon Energy LLC.

Filed Date: 10/31/22.

Accession Number: 20221031-5047.

Comment Date: 5 p.m. ET 11/21/22.

Docket Numbers: ER16-1496-001.

Applicants: Canadian Hills Wind, LLC.

Description: Compliance filing: Canadian Hills Wind, LLC Notice of Non-Material Change in Status to be effective 11/1/2022.

Filed Date: 10/31/22.

Accession Number: 20221031-5144.

Comment Date: 5 p.m. ET 11/21/22.

Docket Numbers: ER17-1217-001.

Applicants: Total Gas & Power North America, Inc.

Description: Notice of Non-Material Change in Status of TotalEnergies Gas & Power North America, Inc., et al.

Filed Date: 10/28/22.

Accession Number: 20221028-5384.

Comment Date: 5 p.m. ET 11/18/22.

Docket Numbers: ER19-1078-001; ER20-443-001; ER22-611-001.

Applicants: Wildcat I Energy Storage, LLC, Acorn I Energy Storage, LLC, PPA Grand Johanna LLC.

Description: Triennial Market Power Analysis and Notice of Change of Status for Southwest Region of Acorn I Energy Storage, LLC, et al.

Filed Date: 10/31/22.

Accession Number: 20221031-5199.

Comment Date: 5 p.m. ET 12/30/22.

Docket Numbers: ER20-1653-001.

Applicants: Kingfisher Wind, LLC.

Description: Compliance filing: Kingfisher Wind, LLC Notice of Non-Material Change in Status to be effective 11/1/2022.

Filed Date: 10/31/22.

Accession Number: 20221031-5142.

Comment Date: 5 p.m. ET 11/21/22.

Docket Numbers: ER22-2719-001.

Applicants: PPL Electric Utilities Corporation, PJM Interconnection, L.L.C.

Description: Tariff Amendment: PPL Electric Utilities Corporation submits tariff filing per 35.17(b): PPL Electric submits Response to Deficiency Letter in ER22-2719 to be effective 10/25/2022.

Filed Date: 10/31/22.

Accession Number: 20221031-5092.

Comment Date: 5 p.m. ET 11/21/22.

Docket Numbers: ER23-265-001.

Applicants: Buckeye Power, Inc., PJM Interconnection, L.L.C.

Description: Tariff Amendment: Buckeye Power, Inc. submits tariff filing per 35.17(b): Revised SA No. 4753—NITSA Among PJM and Buckeye Power, Inc. to be effective 10/1/2022.

Filed Date: 10/31/22.

Accession Number: 20221031-5080.

Comment Date: 5 p.m. ET 11/21/22.

Docket Numbers: ER23-273-000.

Applicants: Wisconsin Public Service Corporation.

Description: § 205(d) Rate Filing: Revisions to the AS Tariff for Reactive Supply Service to be effective 1/1/2023.

Filed Date: 10/28/22.

Accession Number: 20221028-5293.

Comment Date: 5 p.m. ET 11/18/22.

Docket Numbers: ER23-274-000.

Applicants: Duke Energy Florida, LLC.

Description: § 205(d) Rate Filing: DEF-FPL Concurrence SA 391 to be effective 9/28/2022.

Filed Date: 10/28/22.

Accession Number: 20221028-5295.

Comment Date: 5 p.m. ET 11/18/22.

Docket Numbers: ER23-275-000.

Applicants: Buckleberry Solar, LLC.

Description: § 205(d) Rate Filing: MBR Tariff Updates to be effective 10/31/2022.

Filed Date: 10/28/22.

Accession Number: 20221028-5299.

Comment Date: 5 p.m. ET 11/18/22.

Docket Numbers: ER23-276-000.

Applicants: TransAlta Energy Marketing (U.S.) Inc.

Description: Compliance filing: Notice and Justification for Spot Sales above WECC Soft Cap to be effective N/A.

Filed Date: 10/28/22.

Accession Number: 20221031-5002.

Comment Date: 5 p.m. ET 11/18/22.

Docket Numbers: ER23-277-000.

Applicants: Westlake US 2 LLC.

Description: Baseline eTariff Filing: Market Based Rate Application to be effective 1/1/2023.

Filed Date: 10/31/22.

Accession Number: 20221031-5006.

Comment Date: 5 p.m. ET 11/21/22.

Docket Numbers: ER23-278-000.

Applicants: Brookfield Renewable Trading and Marketing LP.

Description: Compliance filing: Notification of Spot Market Sale Above Soft Cap and Refund Report to be effective N/A.

Filed Date: 10/31/22.

Accession Number: 20221031-5039.

Comment Date: 5 p.m. ET 11/21/22.

Docket Numbers: ER23-279-000.

Applicants: Startrans IO, LLC.

Description: § 205(d) Rate Filing: TRBAA 2023 Update to be effective 1/1/2023.

Filed Date: 10/31/22.

Accession Number: 20221031-5040.

Comment Date: 5 p.m. ET 11/21/22.

Docket Numbers: ER23-280-000.

Applicants: Louisville Gas and Electric Company.

Description: § 205(d) Rate Filing: Amending the SERTP's List of Enrollees_Gulf Power Company's Withdrawal from the to be effective 1/1/2023.

Filed Date: 10/31/22.

Accession Number: 20221031-5042.

Comment Date: 5 p.m. ET 11/21/22.

Docket Numbers: ER23-281-000.

Applicants: Midcontinent Independent System Operator, Inc.

Description: § 205(d) Rate Filing: 2022-10-31_SA 3435 Entergy Mississippi-Wildwood Solar 1st Rev GIA (J908) to be effective 10/19/2022.

Filed Date: 10/31/22.

Accession Number: 20221031-5044.

Comment Date: 5 p.m. ET 11/21/22.

Docket Numbers: ER23-282-000.

Applicants: Cardinal Point LLC.

Description: § 205(d) Rate Filing: Notice of Change in Status to be effective 11/1/2022.

Filed Date: 10/31/22.

Accession Number: 20221031-5046.

Comment Date: 5 p.m. ET 11/21/22.

Docket Numbers: ER23-283-000.

Applicants: CP Energy Marketing (US) Inc.

Description: § 205(d) Rate Filing: Notice of Change in Status to be effective 11/1/2022.

Filed Date: 10/31/22.

Accession Number: 20221031-5048.

Comment Date: 5 p.m. ET 11/21/22.

Docket Numbers: ER23-284-000.

Applicants: Meadowlark Wind I LLC.

Description: § 205(d) Rate Filing: Notice of Change in Status to be effective 11/1/2022.

Filed Date: 10/31/22.

Accession Number: 20221031-5049.

Comment Date: 5 p.m. ET 11/21/22.

Docket Numbers: ER23-285-000.

Applicants: Alabama Power Company, Georgia Power Company, Mississippi Power Company.

Description: § 205(d) Rate Filing: Alabama Power Company submits tariff filing per 35.13(a)(2)(iii: OATT Amendment Filing (Exhibit K-9—remove Gulf from SERTP) to be effective 1/1/2023.

Filed Date: 10/31/22.

Accession Number: 20221031-5068.

Comment Date: 5 p.m. ET 11/21/22.

Docket Numbers: ER23-286-000.

Applicants: AMP Transmission, LLC, PJM Interconnection, L.L.C.

Description: § 205(d) Rate Filing: AMP Transmission, LLC submits tariff filing per 35.13(a)(2)(iii: AMPT Revisions to OATT Attachments H-32 and H-32C to be effective 1/1/2023.

Filed Date: 10/31/22.

Accession Number: 20221031-5071.

Comment Date: 5 p.m. ET 11/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2022.
Debbie-Anne A. Reese,
Deputy Secretary.

[FR Doc. 2022-24038 Filed 11-3-22; 8:45 am]

BILLING CODE 6717-01-P